DEPARTMENT OF THE INTERIOR

Bureau of Land Management

[LLCO956000 L14200000.BJ0000]

Notice of Filing of Plats of Survey; Colorado

AGENCY: Bureau of Land Management, Interior.

ACTION: Notice of Filing of Plats of Survey; Colorado.

SUMMARY: The Bureau of Land Management (BLM) Colorado State Office is publishing this notice to inform the public of the intent to officially file the survey plats listed below and afford a proper period of time to protest this action prior to the plat filing. During this time, the plats will be available for review in the BLM Colorado State Office.

DATES: Unless there are protests of this action, the filing of the plats described in this notice will happen on March 25, 2013.

ADDRESSES: BLM Colorado State Office, Cadastral Survey, 2850 Youngfield Street, Lakewood, Colorado 80215-7093.

FOR FURTHER INFORMATION CONTACT: Randy Bloom, Chief Cadastral Surveyor for Colorado, (303) 239-3856.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The plat and field notes of the dependent resurvey in Township 41 North, Range 11 East, New Mexico Principal Meridian, Colorado, were accepted on October 31, 2012.

The plat, in 2 sheets, and field notes of the dependent resurvey and survey in Township 35 North, Range 12 West, New Mexico Principal Meridian, Colorado, were accepted on November 13, 2012.

The plat, in 2 sheets, and field notes of the dependent resurvey and survey in Township 40 North, Range 11 East, New Mexico Principal Meridian, Colorado, were accepted on November 14, 2012.

The plat, in 2 sheets, and field notes of the dependent resurvey and metes-and-bounds survey in Luis Maria Baca Grant No. 4, Colorado, were accepted on November 28, 2012.

The plat, in 4 sheets, and field notes of the survey and metes-and-bounds survey in Luis Maria Baca Grant No. 4, Colorado, were accepted on November 28, 2012.

The plat and field notes of the dependent resurvey in Township 26 South, Range 73 West, Sixth Principal Meridian, Colorado, were accepted on December 11, 2012.

The plat and field notes of the dependent resurvey and survey of the NE¼ of section 31, in Township 7 South, Range 70 West, Sixth Principal Meridian, Colorado, were accepted on December 31, 2012.

The plat, in 3 sheets, and field notes of the dependent resurvey and survey in Township 9 South, Range 70 West, Sixth Principal Meridian, Colorado, were accepted on December 31, 2012.

The plat and field notes of the dependent resurvey and survey in Township 11 South, Range 69 West, Sixth Principal Meridian, Colorado, were accepted on January 10, 2013.

The plat, in 2 sheets, and field notes of the dependent resurvey in Township 11 South, Range 70 West, Sixth Principal Meridian, Colorado, were accepted on February 13, 2013.

Randy Bloom,
Chief Cadastral Surveyor for Colorado.

[FR Doc. 2013-04105 Filed 2-21-13; 8:45 am]

BILLING CODE 4310-JB-P